DEPARTMENT OF ENERGY

Federal Energy Regulatory Commission

[Docket Nos. RP97-369-000 and RP98-39-000]

Northern Natural Gas Company; Notice of Informal Settlement Conference

April 24, 2000.

On March 13 and 28, 2000, the Kansas Corporation Commission (KCC) sponsored two informal settlement conferences for the purpose of initiating settlement discussions potentially leading to a resolution of all the Kansas ad valorem proceedings. During the March 28 conference, the participants agreed that settlement negotiations among all interested parties should be pursued separately for each pipeline involved with the Kansas ad valorem tax refund issues.

The participants interested in the Northern Natural Gas Company docket also reached a consensus that the informal settlement conference agreed upon should be noticed by the Secretary of the Federal Energy Regulatory Commission (Commission) and that the Commission's settlement regulations apply to the informal settlement process. The participants also agreed that, as with the previous two settlement conferences, the Director of the Commission's Dispute Resolution Service and the KCC attend the conference and facilitate the settlement negotiations.

The informal settlement conference will be held on May 9, 2000, at the Wyndham Garden Hotel located at 7000 West 108th, Overland Park, Kansas. The conference will begin at 9:00 a.m. To insure that the facilities are adequately sized all parties that plan to attend the settlement conference are requested to contact Sharon Solon by phone at (402) 398-7015 or via e-mail at sharon.solon@enron.com or mary.kay.miller@enron.com no later than May 3, 2000.

All interested parties in the above dockets are requested to attend the informal settlement conference. If a party has any questions respecting the conference, please call Richard Miles, the Director of the Dispute Resolution Service. His telephone number is 1 877 FERC ADR (337-2237) or 202-208-0702 and his e-mail address is richard.miles@ferc.fed.us.

David P. Boergers,
Secretary.

[FR Doc. 00-10561 Filed 4-27-00; 8:45 am]

BILLING CODE 6717-01-M